DEPARTMENT OF AGRICULTURE

Submission for OMB Review; Comment Request

The Department of Agriculture has submitted the following information collection requirement(s) to OMB for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques and other forms of information technology.

Comments regarding this information collection received by January 12, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Forest Service

Title: Forest Products Removal Permits and Contracts.

OMB Control Number: 0596-0085.

Summary of Collection: The Food, Conservation, and Energy Act of 2008 (Pub. L. 110-246, 122 Stat. 1651) hereinafter the “2008 Farm Bill”), section 8105 authorizes that the Secretary of Agriculture may provide, free of charge, to federally recognized Indian Tribes trees, portions of trees, or forest products from National Forest System lands for noncommercial traditional and cultural purposes. Individuals and businesses that wish to remove forest products from national forest lands must request a permit. 16 U.S.C. 551 requires the promulgation of regulations to regulate forest use and prevent destruction of the forests. Regulations at 36 CFR 223.1 and 223.2 govern the sale of forest products such as Christmas trees, pinecones, moss, and mushrooms. Regulations at 36 CFR 223.5 through 223.11 set forth conditions under which free use of forest products may be obtained by individuals or organizations. Upon receiving a permit, the permittee must comply with the terms of the permit at 36 CFR 261.6 that designate the forest products that can be harvested and under what conditions, such as limiting harvest to a designated area or permitting harvest of only specifically designated material.

Both the Forest Service (FS) and Department of the Interior, Bureau of Land Management (BLM) will use the Forest Products Removal Permit and Cash Receipt to collect information.

Need and Use of the Information: This information is collected from Individuals/Households, businesses wishing to remove forest products from National Forest System and/or Bureau of Land Management lands. Additionally, this information is collected from federally recognized Indian Tribes wishing to remove trees, portions of trees, or forest products from National Forest System lands for traditional and cultural purposes under the authority of section 8105 of the 2008 Farm Bill (and additionally reference 36 CFR 223.15). The collected information is required to determine if the requester meets the criteria for free-use or sale of forest products as authorized by regulations, and to ensure that the permittee/contractor complies with regulations and terms of the permit or contract.

This information allows Agency compliance personnel to identify permittees in the field.

Identification information is used to verify names and addresses, to record the individuals, and businesses obtaining forest products, and to record the Indian Tribes obtaining free use of trees, portions of trees, or forest products under the authority of section 8105 of the 2008 Farm Bill.

This information is necessary to ensure that individuals and businesses have not received product values in excess of the amount allowed by regulation in any one fiscal year.

Law enforcement and other personnel conducting field compliance checks use the information to identify permittees, ensure that the person harvesting a forest product has a permit during the forest product collection, and to ensure that the forest product collection is being performed in the area described on the permit.

Description of Respondents: Individuals or households; Business or other for-profit; State, Local or Tribal Government.

Number of Respondents: 174,198.

Frequency of Responses: Reporting: On occasion; Recordkeeping.

Total Burden Hours: 39,211.

Forest Service

Title: Community Forest and Open Space Conservation Program.

OMB Control Number: 0596-0227.

Summary of Collection: The Forest Service (FS) is authorized to implement the Community Forest and Open Space Program (CFP) under Section 8003 of the Food, Conservation, and Energy Act of 2008 (Pub. L. 110-234; 122 Stat. 2043), which amends the Cooperative Forestry Assistance Act of 1978 (16 U.S.C. 2103d). The purpose of the CFP is to achieve community benefits through grants to local governments, Indian Tribes, and nonprofit organizations to establish community forests by acquiring and protecting private forestlands.

Need and Use of the Information: The applicant will need to provide information as outlined in the rule and the request for proposal. Applicants representing local governments or non-profits will submit CFP applications to their State Foresters. Indian Tribes submit applications directly to the Forest Service. The State Forester or the equivalent Indian Tribe official, per section § 230.03 of the rule, will forward all applications to the FS. FS will use the information in the application to: (1) Determine that the applicant is eligible to receive funds under the program; (2) determine if the proposal meets the qualifications in the law and regulations; (3) evaluate and rank the proposals based on standard, consistent information; and (4) determine if the projects costs are allowable and sufficient cost share is provided. The FS would not be able to implement the program effectively or at all if the collection was conducted less frequently or not at all.

Description of Respondents: Non-profit Organizations; State, Local and Tribal Governments.

Number of Respondents: 50.

Frequency of Responses: Annually; Quarterly; Reporting and Record Keeping.

Total Burden Hours: 1,200.

Dated: December 8, 2021.
Levi S. Harrell,
Departmental Information Collection Clearance Officer.

[FR Doc. 2021-26908 Filed 12-10-21; 8:45 am]

BILLING CODE 3411-15-P